SMALL BUSINESS ADMINISTRATION

[Declaration of Disaster #3620]

State of Florida; Amendment #2

In accordance with a notice received from the Department of Homeland Security—Federal Emergency Management Agency—effective September 9, 2004, the above numbered declaration is hereby amended to include Charlotte, Columbia, DeSoto, Dixie, Gilchrist, Hardee, Hillsborough, Levy, and Marion counties as disaster areas due to damages caused by Hurricane Frances occurring on September 3, 2004, and continuing.

In addition, applications for economic injury loans from small businesses located in the contiguous counties of Hamilton, Lafayette, Sarasota, Suwannee, and Taylor in the State of Florida; and Clinch and Echols in the State of Georgia may be filed until the specified date at the previously designated location. All other counties contiguous to the above named primary counties have previously been declared.

The economic injury number assigned to Georgia is 9ZU400. All other information remains the same, i.e., the deadline for filing applications for physical damage is November 3, 2004 and for economic injury the deadline is June 6, 2005.

(Catalog of Federal Domestic Assistance Program Nos. 59002 and 59008).

Dated: September 10, 2004.
S. George Camp,
Acting Associate Administrator for Disaster Assistance.

[FR Doc. 04-20885 Filed 9-15-04; 8:45 am]

BILLING CODE 8025-01-P